DEPARTMENT OF THE INTERIOR

Fish and Wildlife Service

[FWS-R3-ES-2008-N0235; 30120-1113-0000 C4; 50120-1113-0000 C4]

Endangered and Threatened Wildlife and Plants; 5-Year Review

AGENCY: Fish and Wildlife Service, Interior.

ACTION: Notice of initiation of review; request for information on the piping plover (Charadrius melodus).

SUMMARY: We, the U.S. Fish and Wildlife Service (Service), initiate 5-year reviews of the piping plover (Atlantic Coast, Great Lakes, and Northern Great Plains populations) under the Endangered Species Act of 1973, as amended (Act). We request any new information on these populations that may have a bearing on their classification as endangered or threatened. Based on the results of these 5-year reviews, we will make a finding on whether these populations are properly classified under the Act.

DATES: To allow us adequate time to conduct these reviews, we must receive your information no later than December 1, 2008. However, we will continue to accept new information about any listed species at any time.

ADDRESSES: For instructions on how to submit information and review the information that we receive on these populations, see “Public Solicitation of New Information.”

FOR FURTHER INFORMATION CONTACT: Please contact the appropriate person under “Public Solicitation of New Information.” Individuals who are hearing impaired or speech impaired may call the Federal Relay Service at 800-877-8337 for TTY (telephone typewriter or teletypewriter) assistance.

SUPPLEMENTARY INFORMATION: We initiate 5-year reviews of the Atlantic Coast, Great Lakes, and Northern Great Plains populations of the piping plover (Charadrius melodus), under the Act. In our December 11, 1985, final rule listing the piping plover across its range, we determined the Great Lakes breeding population to be endangered (but threatened when occurring outside of the Great Lakes watershed—See Table 1) and the Atlantic Coast and Great Plains populations to be threatened (50 FR 50726). We then approved recovery plans for the Atlantic Coast (USFWS 1988a, 1996), Great Lakes (USFWS 1988b, 2003), and Northern Great Plains (USFWS 1988b) populations. The three populations share wintering habitats along the Atlantic and Gulf Coasts, from North Carolina to Mexico and into the Caribbean Islands.

We request any new information on these populations that may have a bearing on their classification as endangered or threatened.

Based on the results of these 5-year reviews, we will make findings on whether these populations are properly classified under the Act.

Why Do We Conduct a 5-Year Review?

Under the Act, we maintain the List of Endangered and Threatened Wildlife and Plant Species (List) at 50 CFR 17.11 and 17.12. We amend the List by publishing final rules in the Federal Register. Section 4(c)(2)(A) of the Act requires that we conduct a review of listed species at least once every 5 years. Section 4(c)(2)(B) requires that we determine (1) whether a species no longer meets the definition of threatened or endangered and should be removed from the List (delisted); (2) whether a species more properly meets the definition of threatened and should be reclassified from endangered to threatened; or (3) whether a species more properly meets the definition of endangered and should be reclassified from threatened to endangered. Using the best scientific and commercial data available, a species will be considered for delisting if the data substantiate that the species is neither endangered nor threatened for one or more of the following reasons: (1) The species is considered extinct; (2) the species is considered to be recovered; and/or (3) the original data available when the species was listed, or the interpretation of such data, were in error. Any change in Federal classification requires a separate rulemaking process. Therefore, we are requesting submission of any such information that has become available for each of the three piping plover populations since we initiated the last formal status review on November 6, 1991 (56 FR 56882). Based on the results of these 5-year reviews, we will make the requisite findings under section 4(c)(2)(B) of the Act.

Our regulations at 50 CFR 424.21 require that we publish a notice in the Federal Register announcing those species currently under review. This notice announces initiation of our active review of the piping plover (Table 1).

Table 1—Piping Plover Listing Information Summary
Common name | Scientific name | Status | Where listed | Final listing rule
Piping plover (Great Lakes breeding population) | Charadrius melodus | Endangered | U.S.A. (Great Lakes watershed in States of IL, IN, MI, MN, NY, OH, PA, and WI), Canada (Ont.) | 50 FR 50726; 12/11/1985
Piping plover (Atlantic Coast and Northern Great Plains populations) | Charadrius melodus | Threatened | Entire, except those areas where listed as endangered above | 50 FR 50726; 12/11/1985

What Information Do We Consider in Our Review?

In our 5-year review, we consider all new information available at the time of the review. These reviews will consider the best scientific and commercial data that have become available since the original listing determination or most recent status review of each species, such as—(A) Species biology, including but not limited to population trends, distribution, abundance, demographics, and genetics; (B) Habitat conditions, including but not limited to amount, distribution, and suitability; (C) Conservation measures that have been implemented to benefit the species; (D) Threat status and trends (see five factors under heading “How do we determine whether a species is endangered or threatened?”); and (E) Other new information, data, or corrections, including but not limited to taxonomic or nomenclatural changes, identification of erroneous information contained in the List of Endangered and Threatened Wildlife and Plants, and improved analytical methods.

Public Solicitation of New Information

We request any new information concerning the status of the piping plover (Atlantic Coast, Great Lakes, and Northern Great Plains populations). See “What Information Do We Consider in Our Review?” for specific criteria. If you submit information, support it with documentation such as maps, bibliographic references, methods used to gather and analyze the data, and/or copies of any pertinent publications, reports, or letters by knowledgeable sources. We specifically request information regarding data from any systematic surveys, as well as any studies or analysis of data that may show population size or trends; information pertaining to the biology or ecology of the species; information regarding the effects of current land management on population distribution and abundance; information on the current condition of habitat; and recent information regarding conservation measures that have been implemented to benefit the species. Additionally, we specifically request information regarding the current distribution of populations and evaluation of threats faced by the species in relation to the five listing factors (as defined in section 4(a)(1) of the Act) and the species' listed status as judged against the definition of threatened or endangered. Finally, we solicit recommendations pertaining to the development of, or potential updates to recovery plans and additional actions or studies that would benefit these populations in the future.

Our practice is to make information, including names and home addresses of respondents, available for public review. Before including your address, telephone number, e-mail address, or other personal identifying information in your response, you should be aware that your entire submission—including your personal identifying information—may be made publicly available at any time. While you can ask us in your response to withhold your personal identifying information from public review, we cannot guarantee that we will be able to do so.

Submit all electronic information in Text or Rich Text format. Provide your name and return address in the body of your message, and include the following identifier in the e-mail subject line: “Information on 5-year review for Piping Plover.” You may also view information we receive in response to this notice, as well as other documentation in our files, at the locations below by appointment, during normal business hours. Please contact the appropriate person below. Mail or hand-deliver information to the address(es) below as the information pertains to the piping plover in the corresponding States and other areas:

Michigan, Wisconsin, Minnesota, Illinois, Indiana, Ohio, Pennsylvania, and Ontario: U.S. Fish and Wildlife Service, East Lansing Field Office, 2651 Coolidge Road, Suite 101, East Lansing, MI 48823-5902; Attention: Mr. Jack Dingledine. Direct inquiries to Mr. Dingledine at 517-351-6320 (phone) or FW3MidwestRegion_5YearReview@fws.gov (e-mail).

Montana, North Dakota, South Dakota, Iowa, Nebraska, Colorado, Kansas, Alberta, Saskatchewan, and Manitoba: U.S. Fish and Wildlife Service, 3425 Miriam Avenue, Bismarck, ND 58501; Attention: Ms. Carol Aron. Direct inquiries to Ms. Aron at 701-250-4481 (phone) or carol_aron@fws.gov (e-mail).

North Carolina, South Carolina, Georgia, Bahamas, Cuba, Puerto Rico, and other Caribbean Islands: U.S. Fish and Wildlife Service, P.O. Box 33726, Raleigh, NC 27636-3726; Attention: Mr. David Rabon. Direct inquiries to Mr. Rabon at 919-856-4520, extension 16 (phone) or david_rabon@fws.gov $fnl;(e-mail).

Texas and Mexico: U.S. Fish and Wildlife Service, Ecological Services Field Office, c/o TAMUCC, 6300 Ocean Drive—USFWS Unit 5837, Corpus Christi, TX 78412-5837; Attention: Ms. Robyn Cobb. Direct inquiries to Ms. Cobb at 361-994-9005 (phone) or robyn_cobb@fws.gov (e-mail).

Florida, Alabama, Mississippi, and Louisiana: U.S. Fish and Wildlife Service, 1601 Balboa Avenue, Panama City, FL 32405; Attention: Ms. Patty Kelly. Direct inquiries to Ms. Kelly at 850-769-0552, extension 228 (phone) or patricia_kelly@fws.gov (e-mail).

Maine, New Hampshire, Massachusetts, Rhode Island, Connecticut, New York, New Jersey, Delaware, Maryland, Virginia, Newfoundland, Quebec, Nova Scotia, Prince Edward Island, New Brunswick, and St. Pierre and Miquelon (France), piping plovers in any area not listed above, information pertinent to multiple regions: U.S. Fish and Wildlife Service, 73 Weir Hill Road, Sudbury, MA 01776; Attention: Ms. Anne Hecht. Direct inquiries to Ms. Hecht at 978-443-4325 (phone) or anne_hecht@fws.gov (e-mail).

How Are These Populations Currently Listed?

Table 1 provides current listing information. Also, the List, which covers all listed species, is available on our Internet site at http://endangered.fws.gov/wildlife.html#Species.

Definitions

To help you submit information about the species we are reviewing, we provide the following definitions:

Species includes any species or subspecies of fish, wildlife, or plant, and any distinct population segment of any species of vertebrate, which interbreeds when mature;

Endangered species means any species that is in danger of extinction throughout all or a significant portion of its range; and

Threatened species means any species that is likely to become an endangered species within the foreseeable future throughout all or a significant portion of its range.

How Do We Determine Whether a Species Is Endangered or Threatened?

Section 4(a)(1) of the Act establishes that we determine whether a species is endangered or threatened based on one or more of the five following factors: (A) The present or threatened destruction, modification, or curtailment of its habitat or range; (B) Overutilization for commercial, recreational, scientific, or educational purposes; (C) Disease or predation; (D) The inadequacy of existing regulatory mechanisms; or (E) Other natural or manmade factors affecting its continued existence. Section 4(a)(1) of the Act requires that our determination be made on the basis of the best scientific and commercial data available.

What Could Happen as a Result of Our Review?

For the species under review, if we find new information that indicates a change in classification may be warranted, we may propose a new rule that could do one of the following: (a) Reclassify the population from threatened to endangered (uplist); (b) reclassify the population from endangered to threatened (downlist); or (c) remove the population(s) from the List (delist).

If we determine that a change in classification is not warranted, then the populations will remain on the List under their current status.

References

U.S. Fish and Wildlife Service, 1988a. Atlantic Coast piping plover recovery plan. U.S. Fish and Wildlife Service, Newton Corner, MA. 77pp.

__, 1988b. Great Lakes and Northern Great Plains piping plover recovery plan. U.S. Fish and Wildlife Service, Twin Cities, MN. 160pp.

__, 1996. Piping plover (Charadrius melodus) Atlantic Coast population, revised recovery plan. Hadley, MA. 258pp.

__, 2003. Recovery plan for the Great Lakes piping plover (Charadrius melodus). Ft. Snelling, MN. 141pp.

Authority

We publish this document under the authority of the Endangered Species Act of 1973, as amended (16 U.S.C. 1531 et seq.).

Dated: August 22, 2008.
T.J. Miller,
Acting Assistant Regional Director, Ecological Services, Midwest Region.

[FR Doc. E8-23073 Filed 9-26-08; 4:15 pm]

BILLING CODE 4310-55-P